Title 3—

The President

Proclamation 9834 of December 21, 2018

To Take Certain Actions Under the African Growth and Opportunity Act and for Other Purposes

By the President of the United States of America

A Proclamation

1. In Proclamation 8468 of December 23, 2009, the President designated the Islamic Republic of Mauritania (Mauritania) as a beneficiary sub-Saharan African country for purposes of section 506A(a)(1) of the Trade Act of 1974, as amended (the “Trade Act”), as added by section 111(a) of the African Growth and Opportunity Act (title I of Public Law 106-200, 114 Stat. 251).

2. Section 506A(a)(3) of the Trade Act (19 U.S.C. 2466a(a)(3)) authorizes the President to terminate the designation of a country as a beneficiary sub-Saharan African country for purposes of section 506A if he determines that the country is not making continual progress in meeting the requirements described in section 506A(a)(1) of the Trade Act.

3. Pursuant to section 506A(a)(3) of the Trade Act, I have determined that Mauritania is not making continual progress in meeting the requirements described in section 506A(a)(1) of the Trade Act. Accordingly, I have decided to terminate the designation of Mauritania as a beneficiary sub-Saharan African country for purposes of section 506A of the Trade Act, effective January 1, 2019.

4. On April 22, 1985, the United States and Israel entered into the Agreement on the Establishment of a Free Trade Area between the Government of the United States of America and the Government of Israel (the “USIFTA”), which the Congress approved in section 3 of the United States-Israel Free Trade Area Implementation Act of 1985 (the “USIFTA Act”) (19 U.S.C. 2112 note).

5. Section 4(b) of the USIFTA Act provides that, whenever the President determines that it is necessary to maintain the general level of reciprocal and mutually advantageous concessions with respect to Israel provided for by the USIFTA, the President may proclaim such withdrawal, suspension, modification, or continuance of any duty, or such continuance of existing duty-free or excise treatment, or such additional duties, as the President determines to be required or appropriate to carry out the USIFTA.

6. In order to maintain the general level of reciprocal and mutually advantageous concessions with respect to agricultural trade with Israel, on July 27, 2004, the United States entered into an agreement with Israel concerning certain aspects of trade in agricultural products during the period January 1, 2004, through December 31, 2008 (the “2004 Agreement”).

7. In Proclamation 7826 of October 4, 2004, consistent with the 2004 Agreement, President Bush determined, pursuant to section 4(b) of the USIFTA Act, that, in order to maintain the general level of reciprocal and mutually advantageous concessions with respect to Israel provided for by the USIFTA, it was necessary to provide duty-free access into the United States through December 31, 2008, for specified quantities of certain agricultural products of Israel.

8. Each year from 2008 through 2017, the United States and Israel entered into agreements to extend the period that the 2004 Agreement was in force for 1-year periods to allow additional time for the two governments to conclude an agreement to replace the 2004 Agreement.

9. To carry out the extension agreements, the President in Proclamation 8334 of December 31, 2008; Proclamation 8467 of December 23, 2009; Proclamation 8618 of December 21, 2010; Proclamation 8770 of December 29, 2011; Proclamation 8921 of December 20, 2012; Proclamation 9072 of December 23, 2013; Proclamation 9223 of December 23, 2014; Proclamation 9383 of December 21, 2015; Proclamation 9555 of December 15, 2016; and Proclamation 9687 of December 22, 2017, modified the Harmonized Tariff Schedule of the United States (“HTS”) to provide duty-free access into the United States for specified quantities of certain agricultural products of Israel, each time for an additional 1-year period.

10. On November 8, 2018, the United States entered into an agreement with Israel to extend the period that the 2004 Agreement is in force through December 31, 2019, and to allow for further negotiations on an agreement to replace the 2004 Agreement.

11. Pursuant to section 4(b) of the USIFTA Act, I have determined that it is necessary, in order to maintain the general level of reciprocal and mutually advantageous concessions with respect to Israel provided for by the USIFTA, to provide duty-free access into the United States through the close of December 31, 2019, for specified quantities of certain agricultural products of Israel, as provided in Annex I of this proclamation.

12. Section 915(b) of the Trade Facilitation and Trade Enforcement Act of 2015 (the “TFTEA”) (19 U.S.C. 4454(b)) authorizes the President to provide preferential treatment for eligible articles imported directly from Nepal into the customs territory of the United States.

13. In Proclamation 9555 of December 15, 2016, the President determined, taking into account the factors specified in section 915(b)(1)(B) of the TFTEA, that Nepal met the eligibility requirements of that section. Accordingly, and after receiving advice from the United States International Trade Commission (the “Commission”) in accordance with section 503(e) of the Trade Act (19 U.S.C. 2463(e)), the President determined to designate certain articles as eligible for duty-free treatment when imported from Nepal pursuant to section 915(c)(2)(A)(iv) of the TFTEA.

14. Pursuant to section 604 of the Trade Act (19 U.S.C. 2483), I have determined that it is appropriate to update the list of programs under which special tariff treatment may be provided, and the programs' corresponding symbols, found in general note 3(c)(i) of the HTS in order to reflect more clearly the tariff preference for certain products of Nepal and the symbol of that program.

15. Proclamation 8894 of October 29, 2012, implemented the United States-Panama Trade Promotion Agreement (the “PATPA”) with respect to the United States. Section 201(a) of the United States-Panama Trade Promotion Agreement Implementation Act (the “PATPA Act”) (Public Law 112-43, 125 Stat. 497, 501), authorizes the President to proclaim such modifications or continuation of any duty, such continuation of duty-free or excise treatment, or such additional duties, as the President determines to be necessary or appropriate to carry out or apply Article 3.28 of the PATPA, among other portions of that agreement.

16. Sections 500, 514, and 625 of the Tariff Act of 1930 (19 U.S.C. 1500, 1514, and 1625) grant U.S. Customs and Border Protection (“CBP”) authority to determine the tariff classification of articles that have entered, or will enter, the commerce of the United States. In 2017, CBP changed the classification of certain guayabera-style shirts subject to Article 3.28 of the PATPA.

17. In order to ensure the continuation of duty-free treatment for originating guayabera-style shirts subject to Article 3.28 of the PATPA, and in accordance with section 201 of the PATPA Act, I have determined that it is necessary and appropriate to modify the HTS to carry out the duty reductions previously proclaimed.

18. Proclamation 6821 of September 12, 1995, established a tariff-rate quota on certain tobacco and eliminated tariffs on certain other tobacco by adding additional U.S. note 5 and various subheadings to chapter 24 of the HTS. Additional U.S. note 5 to chapter 24 of the HTS provides that the tariff-rate quota applies to the aggregate quantity of tobacco entered, or withdrawn from warehouse for consumption, under enumerated HTS subheadings from specified countries or areas, except that the tariff-rate quota does not apply to smoking tobacco unless it is manufactured for use in cigarettes.

19. Proclamation 8771 of December 29, 2011, pursuant to the authority provided in section 1206(a) of the Omnibus Trade and Competitiveness Act of 1988 (the “1988 Act”) (19 U.S.C. 3006(a)), modified the HTS to reflect amendments to the International Convention on the Harmonized Commodity Description and Coding System (the “Convention”).

20. HTS subheading 2403.11.00, covering water pipe tobacco that is not used in cigarettes, was incorrectly added to the subheadings enumerated in additional U.S. note 5 to chapter 24. I have determined, in accordance with section 604 of the Trade Act, that a modification to the HTS is needed to correct this technical error.

21. In accordance with my direction, the United States Trade Representative announced in the Federal Register notice of September 21, 2018, 83 FR 47974 (the “USTR Notice”), his determination to modify the action taken in the Section 301 Action: China's Acts, Policies, and Practices Related to Technology Transfer, Intellectual Property, and Innovation by imposing additional duties on products of China classified in the full and partial HTS subheadings set out in Annex A of that notice. The full and partial subheadings covered by the USTR Notice include HTS subheading 2009.89.60.

22. Subsequently, Proclamation 9813 of October 30, 2018, divided HTS subheading 2009.89.60 into two new subheadings, 2009.89.65 and 2009.89.70, in order to provide that several countries should no longer be treated as beneficiary developing countries with respect to one or more eligible articles for purposes of the Generalized System of Preferences. In order to maintain the scope of the modification to the Section 301 action announced in the USTR Notice, and in accordance with section 604 of the Trade Act, I have determined that it is necessary to modify U.S. note 20(f) to subchapter III of chapter 99 of the HTS.

23. The Miscellaneous Tariff Bill Act of 2018 (Public Law 115-239, 132 Stat. 2451), enacted on September 13, 2018, and effective October 13, 2018, created three headings in the HTS, 9902.01.15, 9902.01.16, and 9902.01.17, that refer to articles provided for in subheading 2009.89.60. As a result of the division of that subheading into two new subheadings in Proclamation 9813, those articles are now provided for in 2009.89.70. In accordance with section 604 of the Trade Act, I have determined that it is necessary to amend headings 9902.01.15, 9902.01.16, and 9902.01.17 of the HTS to reflect the correct new subheading.

24. On June 30, 2007, the United States signed the United States-Korea Free Trade Agreement (the “KORUS”). The Congress approved the KORUS in section 101(a) of the United States-Korea Free Trade Agreement Implementation Act (the “KORUS Act”) (Public Law 112-41, 125 Stat. 428).

25. Proclamation 8783 of March 6, 2012, implemented the KORUS with respect to the United States and, pursuant to section 201 of the KORUS Act, incorporated in the HTS the tariff modifications necessary or appropriate to carry out the staged reductions in duty that the President determined to be necessary or appropriate to carry out or apply Articles 2.3, 2.5, and 2.6 of the KORUS, and the schedule of duty reductions with respect to Korea set forth in Annex 2-B, Annex 4-B, and Annex 22-A of the KORUS.

26. Section 201(b) of the KORUS Act (125 Stat. 433) authorizes the President, subject to the consultation and layover requirements of section 104 (125 Stat. 431-32), to proclaim such modifications or continuation of any duty, such modifications as the United States may agree to with Korea regarding the staging of any duty treatment set forth in Annex 2-B of the KORUS, such continuation of duty-free or excise treatment, or such additional duties, as the President determines to be necessary or appropriate to maintain the general level of reciprocal and mutually advantageous concessions with respect to Korea provided for by the KORUS.

27. The United States and Korea have agreed to modify the KORUS by modifying the staging of duty treatment for specific goods of Korea. I have determined that modification of the tariff treatment set forth in Proclamation 8783 is therefore necessary or appropriate to maintain the general level of reciprocal and mutually advantageous concessions with respect to Korea provided for by the KORUS, and to carry out the agreement with Korea modifying the staging of duty treatment for specific goods.

28. On June 13, 2018, in accordance with section 104 of the KORUS Act, the United States Trade Representative submitted a report to the Committee on Finance of the Senate and the Committee on Ways and Means of the House of Representatives that set forth the proposed modifications to the duties for specific goods of Korea under the KORUS. The consultation and layover period specified in section 104 expired on August 11, 2018.

29. Section 1206(a) of the 1988 Act (19 U.S.C. 3006(a)) authorizes the President to proclaim modifications to the HTS based on the recommendations of the Commission under section 1205 of the 1988 Act (19 U.S.C. 3005) if he determines that the modifications are in conformity with United States obligations under the Convention and do not run counter to the national economic interest of the United States.

30. In Proclamation 9771 of July 30, 2018, pursuant to the authority provided in section 1206(a) of the 1988 Act, the President modified the HTS to reflect a small number of amendments to the Convention.

31. In order to ensure the continuation of staged reductions in rates of duty for originating goods of Korea as provided in Proclamation 8783, under tariff categories that were modified in Proclamation 9771 to reflect the amendments to the Convention, I have determined that additional modifications to the HTS are necessary or appropriate.

32. Proclamation 7971 of December 22, 2005, implemented the United States-Morocco Free Trade Agreement (the “USMFTA”) with respect to the United States and, pursuant to the United States-Morocco Free Trade Agreement Implementation Act (Public Law 108-302, 118 Stat. 1103) (the “USMFTA Act”), incorporated in the HTS the tariff modifications and rules of origin necessary or appropriate to carry out the USMFTA.

33. Section 203 of the USMFTA Act (118 Stat. 1109-15) provides rules for determining whether goods imported into the United States originate in the territory of Morocco and thus are eligible for the tariff and other treatment contemplated under the USMFTA. Section 203(j)(2)(B)(i) of the USMFTA Act (118 Stat. 1115) authorizes the President to proclaim, as a part of the HTS, the rules of origin set out in the USMFTA, and to proclaim modifications to such previously proclaimed rules of origin, subject to the consultation and layover requirements of section 104 of the USMFTA Act (118 Stat. 1106).

34. The United States and Morocco have agreed to modify certain USMFTA rules of origin and to apply the modified rules to their bilateral trade. On November 21, 2017, in accordance with section 104 of USMFTA Act, the United States Trade Representative submitted a report to the Committee on Finance of the Senate and the Committee on Ways and Means of the House of Representatives that set forth the proposed modifications to specific textile and apparel rules of origin of the USMFTA incorporated in the HTS. The consultation and layover period specified in section 104 expired on January 20, 2018.

35. In order to reflect the agreement between the United States and Morocco related to USMFTA rules of origin, I have determined that it is necessary to modify the HTS.

36. Section 604 of the Trade Act (19 U.S.C. 2483) authorizes the President to embody in the HTS the substance of the relevant provisions of that Act, and of other acts affecting import treatment, and actions thereunder, including removal, modification, continuance, or imposition of any rate of duty or other import restriction.

NOW, THEREFORE, I, DONALD J. TRUMP, President of the United States of America, acting under the authority vested in me by the Constitution and the laws of the United States of America, including section 506A(a)(3) of the Trade Act (19 U.S.C. 2466a(a)(3)); section 4(b) of the USIFTA Act (19 U.S.C. 2112 note); section 201(a) of the PATPA Act (125 Stat. 501); section 1206(a) of the 1988 Act (19 U.S.C. 3006(a)); section 201(b) of the KORUS Act (125 Stat. 433); section 203(j) of the USMFTA Act (118 Stat. 1115); and section 604 of the Trade Act (19 U.S.C. 2483), do proclaim that:

(1) The designation of Mauritania as a beneficiary sub-Saharan African country for purposes of section 506A of the Trade Act is terminated, effective January 1, 2019.

(2) In order to reflect in the HTS that beginning January 1, 2019, Mauritania shall no longer be designated as a beneficiary sub-Saharan African country, general note 16(a) to the HTS is modified by deleting “Islamic Republic of Mauritania” from the list of beneficiary sub-Saharan African countries.

(3) The modification to the HTS set forth in paragraphs (1) and (2) of this proclamation shall be effective with respect to articles that are entered for consumption, or withdrawn from warehouse for consumption, on or after January 1, 2019.

(4) In order to implement United States tariff commitments under the 2004 Agreement through December 31, 2019, the HTS is modified as provided in Annex I of this proclamation.

(5) The modifications to the HTS set forth in Annex I of this proclamation shall be effective with respect to eligible agricultural products of Israel that are entered for consumption, or withdrawn from warehouse for consumption, on or after January 1, 2019.

(6) The provisions of subchapter VIII of chapter 99 of the HTS, as modified by Annex I of this proclamation, shall continue in effect through December 31, 2019.

(7) In order to reflect the tariff preference for certain products from Nepal, the HTS is modified by adding “Nepal Preference Program.........NP” after “United States-Panama Trade Promotion Agreement Implementation Act.........PA” in general note 3(c)(i). The modification set forth in this paragraph shall be effective with respect to goods that are entered for consumption, or withdrawn from warehouse for consumption, on or after January 1, 2019, and shall continue in effect through December 31, 2025.

(8) In order to provide for previously proclaimed duty-free treatment for originating guayabera-style shirts under the PATPA, the HTS is modified by deleting “heading 6205 or 6206” and by inserting in lieu thereof “heading 6205, 6206, or 6211” in U.S. note 41 to subchapter XXII of chapter 98. The modification set forth in this paragraph shall be effective with respect to goods that are entered for consumption, or withdrawn from warehouse for consumption, on or after January 1, 2019.

(9) In order to correct a technical error in the administration of a tobacco tariff-rate quota, additional U.S. note 5(a) to chapter 24 is modified by deleting “2403.11.00”. The modification set forth in this paragraph shall be effective with respect to goods that are entered for consumption, or withdrawn from warehouse for consumption, on or after January 1, 2019.

(10) In order to maintain the scope of the modification of the Section 301 action, U.S. note 20(f) to subchapter III of chapter 99 of the HTS is modified by deleting “2009.89.60” and inserting “2009.89.65” and “2009.89.70” in numerical sequence. The modification set forth in this paragraph shall be effective with respect to goods that are entered for consumption, or withdrawn from warehouse for consumption, on or after November 1, 2018.

(11) In order to reflect modifications to certain HTS subheadings made in Proclamation 9813 and to provide the intended tariff treatment under the Miscellaneous Tariff Bill of 2018, headings 9902.01.15, 9902.01.16, and 9902.01.17 of the HTS are each amended by deleting “subheading 2009.89.60” and inserting “subheading 2009.89.70” in lieu thereof. The modification set forth in this paragraph shall be effective with respect to goods that are entered for consumption, or withdrawn from warehouse for consumption, on or after November 1, 2018.

(12) In order to modify the staging of duty treatment for specific goods of Korea under the terms of general note 33 to the HTS:

(a) the tariff treatment set forth in Proclamation 8783 with respect to subheadings 8704.21.00, 8704.22.50, 8704.23.00, 8704.31.00, 8704.32.00, and 8704.90.00 is terminated, effective with respect to goods that are entered for consumption, or withdrawn from warehouse for consumption, on or after January 1, 2019;

(b) in the Rates of Duty 1-Special subcolumn of column 1 for subheadings 8704.21.00, 8704.22.50, 8704.23.00, 8704.31.00, 8704.32.00, and 8704.90.00, the rate of duty “25% (KR)” shall continue in effect through December 31, 2040; and

(c) effective with respect to goods that are entered for consumption, or withdrawn from warehouse for consumption, on or after January 1, 2041, subheadings 8704.21.00, 8704.22.50, 8704.23.00, 8704.31.00, 8704.32.00, and 8704.90.00 are hereby modified by inserting, in the Rates of Duty 1-Special subcolumn of column 1 in the parenthetical expression following the “Free” rate of duty, the symbol “KR”.

(13) In order to provide for the continuation of previously proclaimed staged duty reductions in the Rates of Duty 1-Special subcolumn for originating goods of Korea under the KORUS that are classifiable in the provisions modified by Annex III of Proclamation 9771 and entered for consumption, or withdrawn from warehouse for consumption, on or after each of the dates specified in Proclamation 9771, the HTS is modified as follows:

(a) effective January 1, 2019, the rate of duty in the HTS set forth in the Rate of Duty 1-Special subcolumn for each of the HTS subheadings enumerated in Annex II of this proclamation shall be modified by inserting in such subcolumn for each subheading the rate of duty specified for such subheading in the table column “2019” before the symbol “KR” in parentheses; and

(b) for each of the subsequent dated table columns, the rates of duty in such subcolumn for such subheadings set forth before the symbol “KR” in parentheses are deleted and the rates of duty for such dated table column are inserted in each enumerated subheading in lieu thereof.

(14) In order to implement agreed amendments to certain textile rules of origin under the USMFTA, general note 27 to the HTS is modified as set forth in Annex III of this proclamation. The modifications set forth in Annex III of this proclamation shall enter into effect on the first day of the month following the date the United States Trade Representative announces in a notice published in the Federal Register that Morocco has completed its applicable domestic procedures to give effect to corresponding modifications to be applied to goods of the United States.

(15) Any provisions of previous proclamations and Executive Orders that are inconsistent with the actions taken in this proclamation are superseded to the extent of such inconsistency.

IN WITNESS WHEREOF, I have hereunto set my hand this twenty-first day of December, in the year of our Lord two thousand eighteen, and of the Independence of the United States of America the two hundred and forty-third.

Billing code 3295-F9-P

[FR Doc. 2019-00013

Filed 1-4-19; 8:45 am]

Billing code 7020-02-C